DEPARTMENT OF VETERANS AFFAIRS

[OMB Control No. 2900-0750]

Agency Information Collection Activity Under OMB Review: Ethics Consultation Feedback Tool (ECFT)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before May 31, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0750” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov. Please refer to “OMB Control No. 2900-0750” in any correspondence.

SUPPLEMENTARY INFORMATION:

Authority: 38 U.S.C. Part 1Chapter 5 Section 527.

Title: Ethics Consultation Feedback Tool (ECFT); VA Form 10-10065.

OMB Control Number: 2900-0750.

Type of Review: Reinstatement of a currently approved collection.

Abstract: Ethics consultation is a service provided in all Veterans Health Administration (VHA) facilities. We define ethics consultation as a service provided by an individual ethics consultant, ethics consultation team, or ethics committee to help patients, providers, and other parties resolve ethical concerns in a health care setting. The overall goal of ethics consultation is to improve health care quality by facilitating the resolution of ethical concerns. By providing a forum for discussion and methods for careful analysis, effective ethics consultation:

• Promotes practices consistent with high ethical standards

• helps foster consensus and resolve conflict in an atmosphere of respect

• honors participants' authority and values in the decision-making process

• educates participants to handle current and future ethical concerns

Ensuring the success of the ethics consultation service also requires ongoing evaluation, by which we mean systematic assessment of the operation and/or outcomes of a program compared to a set of explicit or implicit standards, as a means of contributing to the continuous improvement of the program. Evaluation is an important strategy to improve the process of ethics consultation (i.e., how ethics consultation is being performed) as well as its outcomes (i.e., how ethics consultation affects participants and the facility).

An agency may not conduct or sponsor, and a person is not required to respond to a collection of information unless it displays a currently valid OMB control number. The Federal Register Notice with a 60-day comment period soliciting comments on this collection of information was published at 82 FR 52972 on November 15, 2017, pages 52972 and 52973.

Affected Public: Individuals and households.

Estimated Annual Burden: 47 hours.

Estimated Average Burden per Respondent: 5 minutes.

Frequency of Response: Annually.

Estimated Number of Respondents: 569.

By direction of the Secretary.
Cynthia D. Harvey-Pryor,
Department Clearance Officer, Office of Quality, Privacy and Risk, Department of Veterans Affairs.

[FR Doc. 2018-09104 Filed 4-30-18; 8:45 am]

BILLING CODE 8320-01-P